OVERSEAS PRIVATE INVESTMENT CORPORATION

Sunshine Act; OPIC Annual Public Hearing

January 12, 2006.

OPIC's Sunshine Act notice of its annual public hearing was published in the Federal Register (Volume 70, Number 246, Pages 76333 and 76334) on December 23, 2005. No requests were received to provide testimony or submit written statements for the record; therefore, OPIC's annual public hearing scheduled for 2 p.m. on January 12, 2006 has been cancelled.

FOR FURTHER INFORMATION CONTACT: Information on the hearing cancellation may be obtained from Connie M. Downs at (202) 336-8438, via facsimile at (202) 218-0136, or via e-mail at cdown@opic.gov.

Dated: January 9, 2006.
Connie M. Downs,
OPIC Corporate Secretary.

[FR Doc. 06-336 Filed 1-10-06; 1:20 pm]

BILLING CODE 3210-01-M